DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer on (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: National Health Service Corps Site Profile—New

The National Health Service Corps (NHSC) of the Bureau of Clinician Recruitment and Service, Health Resources and Services Administration (HRSA), is committed to improving the health of the Nation's underserved by uniting communities in need with caring health professionals and by supporting communities' efforts to build better systems of care.

The NHSC Site Profile, submitted by approved NHSC sites, provides an overview of the site. A completed profile will contain information such as, the name of the sponsoring agency, site recruiter contact information, staffing levels, service users, charges for services, employment policies, etc. Assistance in completing the site profiles may be obtained through the appropriate State Primary Care Offices, State Primary Care Associations and the NHSC. The site profiles will be posted with eligible vacancies on the NHSC Job Opportunities Web site. Site profiles are used as a marketing tool for the site to recruit prospective primary health care clinicians.

The estimated annual burden is as follows:

Form | Number of respondents | Responses per respondent | Total responses | Hours per response | Total burden hours
Application | 7080 | 1 | 7080 | 2.5 | 17700
Total | 7080 | 1 | 7080 | 2.5 | 17700

E-mail comments to paperwork@hrsa.gov or mail the HRSA Reports Clearance Officer, Room 10-33, Parklawn Building, 5600 Fishers Lane, Rockville, MD 20857. Written comments should be received within 60 days of this notice.

Dated: July 29, 2009.
Alexandra Huttinger,
Director, Division of Policy Review and Coordination.

[FR Doc. E9-18813 Filed 8-5-09; 8:45 am]

BILLING CODE 4165-15-P